DEPARTMENT OF DEFENSE

Office of the Secretary

[Transmittal No. 21-0B]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0B with attached Policy Justification.

Dated: February 25, 2022.
Aaron T. Siegel,
Alternate OSD Federal Register Liaison Officer, Department of Defense.

BILLING CODE 5001-06-P

BILLING CODE 5001-06-C

Transmittal No. 21-0B

REPORT OF ENHANCEMENT OR UPGRADE OF SENSITIVITY OF TECHNOLOGY OR CAPABILITY (SEC. 36(B)(5)(C), AECA)

(i) Prospective Purchaser: Government of Australia.

(ii) Sec. 36(b)(l), AECA Transmittal No.: 15-22.

Date: April 28, 2015

Military Department: Navy

(iii) Description: On April 28, 2015, Congress was notified by Congressional certification transmittal number 15-22 of the possible sale, under Section 36(b)(l) of the Arms Export Control Act, of follow-on sustainment support and services for twenty-four (24) AF/A-18Fs Super Hornet and twelve (12) AEA-18G Growler aircraft. The sustainment efforts included software and hardware updates; Engineering Change Proposals; System Configuration upgrades; system integration and testing; engine component improvement; tools and test equipment; spare and repair parts; support equipment; publications and technical documentation; personnel training and training equipment; aircrew trainer devices upgrades; U.S. Government and contractor technical assistance; and other related elements of logistics and program support. The estimated cost was $1.5 billion. No Major Defense Equipment (MDE) was purchased.

On September 12, 2019, Congress was notified by Congressional certification transmittal number 19-0L of Australia's request for additional sustainment and upgrades to the Australian F/A-18E/F fleet. The upgrades included up to twenty (20) AN/ASG-34(V) Infrared Search and Track (IRST) Block II systems; up to sixty (60) Distributed Targeting Processor—Networked (DTP-N) assets; and up to fifty-two (52) Multifunctional Information Distribution System Joint Tactical Radio Systems (MIDS JTRS) (6). The overall MDE value increased to $260 million and the overall total value increased to $1.81 billion.

This transmittal reports Australia's request for additional sustainment and upgrades to the Australian F/A-18F fleet. The upgrades include up to thirty-two (32) Multifunctional Information Distribution System Joint Tactical Radio System (MIDS JTRS) Upgrade Kits with Tactical Targeting Network Technology (TTNT); up to thirty-one (31) Distributed Targeting Processor—Networked (DTP-N) units; up to fifty-one (51) High Definition Video Recorders (HDVR); and up to fifty-three (53) AN/ARC-210 RT-2036 Radios. The sale also includes system integration and testing; software development; spares; support equipment; and government and contracting technical assistance. The overall MDE value will increase to $292.5 million and the overall total value will increase to $2 billion.

(iv) Significance: This proposed sale will allow Australia to effectively maintain its current force projection capability that enhances interoperability with U.S. forces well into the future.

(v) Justification: This proposed sale supports the foreign policy and national security objectives of the United States by improving the security of a Major Non-NATO Ally that is a key partner of the United States in ensuring peace and stability around the world.

(vi) Sensitivity of Technology: Multifunctional Information Distribution System Joint Tactical Radio System (MIDS JTRS) Upgrade Kits with Tactical Targeting Network Technology (TTNT) provides a high capacity, low latency, internet Protocol (IP) based waveform that can quickly transmit large amounts of data. Advanced algorithms allow cooperative detection and engagement of a wider array of targets, improving fused track accuracy and increasing lethality/survivability through Situational Awareness.

Distributed Targeting Processor—Networked (DTP-N) is an upgrade to the Distributed Targeting System (DTS) providing internet Protocol (IP) to the F/A-18F, enabling connectivity to advanced tactical networks. The DTP-N upgrade provides the foundation for a majority of the future flight plan strike capabilities, which are related to improved targeting and networking.

DTP-N is networking hardware required for tactical use of IP based waveforms. This upgrade also provides Multi-Level Security (MLS) features, offering new capabilities to the platform through increased security assurances on data separation and data transfer.

AN/ARC-210 RT-2036 Radio is a single-channel, software-defined radio with multiple waveforms, high-speed mobile ad hoc networked communications, and beyond-line-of-sight connectivity for data, voice and imagery.

High Definition Video Recorders (HDVR) will replace the Upgraded Solid State Recorder (USSR) and Solid State Recorder (SSR), and provide cockpit video recording system commonality in Block I, Block II, and Block III F/A-18E, F/A-18F, and EA-18G aircraft. The HDVR provides Data at Rest (DAR) protection and four times the storage capacity of SSR/USSR.

(vii) Date Report Delivered to Congress: March 16, 2021.

[FR Doc. 2022-04480 Filed 3-2-22; 8:45 am]

BILLING CODE 5001-06-P